ENVIRONMENTAL PROTECTION AGENCY

[FRL-7091-8]

Notice of Availability of Draft NPDES General Permits for Construction Dewatering Activity Discharges in the States of Massachusetts and New Hampshire

AGENCY: Environmental Protection Agency (EPA).

ACTION: Notice of Availability of the Draft NPDES General Permits MAG070000 and NHG070000.

SUMMARY: The Director of the Office of Ecosystem Protection, Environmental Protection Agency—New England (EPA-NE), is today providing notice of the availability of the Draft National Pollutant Discharge Elimination System (NPDES) general permit for construction dewatering activity discharges to certain waters of the States of Massachusetts and New Hampshire as authorized by section 301(a) of the Clean Water Act. See also 40 CFR 122.28. The existing general permit was issued by EPA-NE and published at 61 FR 19284, May 1, 1996. The general permit expired on May 01, 2001. The reissued draft NPDES general permit establishes Notice of Intent (NOI) requirements, effluent limitations, standards, prohibitions and management practices for construction dewatering activity discharges. Construction dewatering activity is defined as pumped or drained discharges of groundwater and/or stormwater from excavations or other points of accumulation associated with a construction activity.

Owners and/or operators of sites that discharge groundwater and/or stormwater from construction dewatering activities, including those currently authorized to discharge under the expired general permit, will be required to submit an NOI to EPA-NE to be covered by the appropriate general permit and will receive a written notification from EPA-NE of permit coverage and authorization to discharge under the general permit. The general permit does not cover new sources as defined under 40 CFR 122.2.

DATES: For comment period: interested persons may submit comments on the draft general permit as part of the administrative record to the EPA-NE, at the address given below, no later than November 28, 2001.

ADDRESSES: The draft permit is based on an administrative record available for public review at EPA-NE, Office of Ecosystem Protection (CPE), 1 Congress Street, Suite 1100, Boston, Massachusetts 02114-2023. Written comments may be hand delivered or mailed to this address. Electronic comments may be e-mailed to frawley.austine@EPA.GOV.

FOR FURTHER INFORMATION CONTACT: Additional information concerning the draft permit may be obtained between the hours of 9:00 a.m. and 5:00 p.m. Monday through Friday excluding holidays from: Austine Frawley, EPA-NE, Office of Ecosystem Protection, NPDES Permit Unit; One Congress Street, Boston, MA 02114-2023; telephone: 617-918-1065; e-mail: frawley.austine@EPA.GOV.

SUPPLEMENTARY INFORMATION: The Draft NPDES General Permit may be viewed over the Internet via the EPA-NE web site www.epa.gov/region01/topics/water/permits.html. To obtain a hard copy of the document, please call, e-mail or write to Ms. Frawley at the addresses listed above. The draft general permit includes FACT SHEET AND SUPPLEMENTARY INFORMATION sections that set forth principal facts and the significant factual, legal and policy questions considered in the development of the draft permit. A reasonable fee may be charged for copying requests.

When the general permit is reissued, it will be published in its entirety in the Federal Register. The general permit will be effective on the date specified in the Federal Register and it will expire five years from the date that the final permit is published in the Federal Register.

Dated: October 17, 2001.
Robert W. Varney,
Regional Administrator, EPA—New England.

[FR Doc. 01-27111 Filed 10-26-01; 8:45 am]

BILLING CODE 6560-50-P